DEPARTMENT OF HOMELAND SECURITY

Coast Guard

33 CFR Parts 101, 105 and 106

Transportation Security Administration

49 CFR Part 1572

[Docket Nos. TSA-2006-24191; USCG-2006-24196]

RIN 1652-AA41

Transportation Worker Identification Credential (TWIC) Implementation in the Maritime Sector; Hazardous Materials Endorsement for a Commercial Driver's License

AGENCY: Transportation Security Administration (TSA), United States Coast Guard, Department of Homeland Security (DHS).

ACTION: Notice of Public Meeting.

SUMMARY: The Transportation Security Administration (TSA) and the Coast Guard invite interested members of the smart card technology community, vendors of biometric card readers, and the general public to meet in Washington, DC to discuss the Transportation Worker Identification Credential (TWIC) Reader Hardware and Card Application Specification. The meeting will be open to the public and will also be available by teleconference.

DATES: This meeting will be held on November 19, 2007 from 1 p.m. to 4 p.m. EST. This meeting may close early if all business is finished.

ADDRESSES: The meeting will be held in room 2415, U.S. Coast Guard Headquarters, 2100 Second Street SW., Washington, DC. If you would like to submit questions in advance or written material for distribution, contact LT Brooke Grant, at 2100 2nd St., SW., Washington, DC 20593, brooke.e.grant@uscg.mil. Any written material that vendors or the public wish to provide should reach the Coast Guard on or before November 15, 2007. This notice is available in our online dockets, TSA-2006-24191; USCG-2006-24196, at http://www.regulations.gov.

FOR FURTHER INFORMATION CONTACT: LT Brooke Grant; at 202-372-1136 and brooke.e.grant@uscg.mil.

SUPPLEMENTARY INFORMATION: On November 19, 2007, TSA and the Coast Guard invite vendors and the public to discuss the Transportation Worker Identification Credential Reader Hardware and Card Application Specification published in the Federal Register on September 28, 2007. (72 FR 55043.) The reader specification is also available on the docket at TSA-2006-24191 and on the TSA Web site http://www.tsa.gov/what_we_do/layers/twic/index.shtm. After an overview of the TWIC Reader Hardware and Card Application Specification and TWIC pilot test plans, TSA and Coast Guard representatives will be available to answer questions concerning the specification and pilot. Vendors and members of the public are encouraged to submit any questions in advance to the Coast Guard at the number listed in FOR FURTHER INFORMATION CONTACT above. These questions will be addressed during the Overview.

Agenda of Meeting

The agenda for this November 19, 2007 public meeting is as follows:

(1) Opening Remarks.

(2) TWIC Reader Hardware and Card Application Specification Overview.

(3) TWIC Pilot Overview.

(4) Questions from vendors and the public.

(5) Closing Remarks.

Procedure

This meeting is open to the public.

You may participate or monitor the meeting by teleconference. Note that the number of teleconference lines is limited and only available on a first come, first served basis. For the telephone number and password to attend by teleconference, contact the Coast Guard at the number listed in FOR FURTHER INFORMATION CONTACT above by November 15, 2007.

You may also attend the meeting in person at the location listed in ADDRESSES above. Security requires members of the public who wish to attend the meeting in person at Coast Guard Headquarters to provide their name no later than 4 p.m. EST, November 15, 2007 to the Coast Guard at the number listed in FOR FURTHER INFORMATION CONTACT above. Photo identification is required for entry into Coast Guard Headquarters.

Information on Services for Individuals With Disabilities

For information on facilities or services for individuals with disabilities or to request special assistance at the meeting, contact the Coast Guard at the number listed in the FOR FURTHER INFORMATION CONTACT section above as soon as possible.

Dated: October 31 2007.
M.L. Blair,
Captain, U.S. Coast Guard, Acting Director, Commercial Regulations and Standards.

[FR Doc. 07-5594 Filed 11-5-07; 4:01 pm]

BILLING CODE 4910-15-P